DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received no later than September 24, 2015.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: Rural Outreach Benefits Counseling Program Measures OMB No. 0915-XXXX—NEW.

Abstract: The Rural Outreach Benefits Counseling Program (Benefits Counseling Program) is authorized by Section 330A(e) of the Public Health Service (PHS) Act (42 U.S.C. 254c(e)), Public Law 113-76 as amended to “promote rural health care services outreach by expanding the delivery of health care services to include new and enhanced services in rural areas.” The purpose of the 3-year Benefits Counseling Program is to expand outreach, education and enrollment efforts to eligible uninsured individuals and families, and newly insured individuals and families in rural communities.

The overarching goal of this grant program is to coordinate and conduct innovative outreach activities through a strong consortium in order to: (1) Identify and enroll uninsured individuals and families who are eligible for public health insurance such as Medicare, Medicaid, and Children's Health Insurance Program; qualified health plans offered through Health Insurance Marketplaces; and/or private health insurance plans in rural communities; and (2) educate the newly insured individuals in rural communities about their health insurance benefits, help connect them to primary care and preventive services to which they now have access, and help them retain their health insurance coverage.

Need and Proposed Use of the Information: For this program, performance measures were drafted to provide data to the program and to enable HRSA to provide aggregate program data required by Congress under the Government Performance and Results Act (GPRA) of 1993. These measures cover the principal topic areas of interest to the Federal Office of Rural Health Policy (FORHP), including: (a) Access to care; (b) population demographics; (c) staffing; (d) consortium/network; (e) sustainability; and (f) benefits counseling process and outcomes. Several measures will be used for the Benefits Counseling Program. All measures will speak to FORHP's progress toward meeting the goals set.

A 60-day Federal Register Notice was published in the Federal Register on June 1, 2015 (80 FR 31051). There were no comments.

Likely Respondents: The respondents would be recipients of the Rural Outreach Benefits Counseling grant funding.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this ICR are summarized in the table below.

Total Estimated Annualized Burden—Hours
Form name | Number of respondents | Number of responses per respondent | Total responses | Average burden per response (in hours) | Total burden hours
Rural Outreach Benefits Counseling Grant Program Measures | 10 | 1 | 10 | 2 | 20
Total | 10 | 1 | 10 | 2 | 20

Jackie Painter,
Director, Division of the Executive Secretariat.

[FR Doc. 2015-21009 Filed 8-24-15; 8:45 am]

BILLING CODE 4165-15-P